DEPARTMENT OF COMMERCE

International Trade Administration

[A-583-833]

Certain Polyester Staple Fiber From Taiwan: Rescission of Antidumping Duty Administrative Review

AGENCY: Import Administration, International Trade Administration, Department of Commerce.

SUMMARY: In response to requests from interested parties, the Department of Commerce initiated an administrative review of the antidumping duty order on certain polyester staple fiber in Taiwan. Based on withdrawal of requests for review from interested parties, we are rescinding the administrative review.

EFFECTIVE DATE: November 1, 2004.

FOR FURTHER INFORMATION CONTACT: Scott Holland, AD/CVD Operations, Office 1, Import Administration, International Trade Administration, U.S. Department of Commerce, 14th Street and Constitution Avenue, N.W., Washington D.C. 20230; telephone (202) 482-1279.

SUPPLEMENTARY INFORMATION:

Background

On May 25, 2000, the Department of Commerce (“the Department”) published an antidumping duty order on certain polyester staple fiber from Taiwan. Notice of Amended Final Determination of Sales at Less Than Fair Value: Certain Polyester Staple Fiber From the Republic of Korea and Antidumping Duty Orders: Certain Polyester Staple Fiber From the Republic of Korea and Taiwan, 65 FR 33807 (May 25, 2000).

On May 3, 2004, the Department published a notice in the Federal Register of the opportunity for interested parties to request an administrative review of the antidumping duty order on certain polyester staple fiber from Taiwan. See Antidumping or Countervailing Duty Order, Finding, or Suspended Investigation; Opportunity to Request Administrative Review, 69 FR 24117 (May 3, 2004).

On May 28, 2004, Far Eastern Textile, Ltd. (“FETL”), a producer/exporter of certain polyester staple fiber in Taiwan, and Fibertex Corporation (“Fibertex”), a U.S. importer of the merchandise subject to review, jointly requested an administrative review of the antidumping duty order on certain polyester staple fiber from Taiwan covering the period May 1, 2003, through April 30, 2004. In accordance with 19 CFR 351.221(c)(1)(i), we published the initiation of the review on June 30, 2004. See Initiation of Antidumping and Countervailing Duty Administrative Reviews and Request for Revocation in Part, 69 FR 39409 (June 30, 2004). On September 28, 2004, FETL and Fibertex withdrew their requests for review.

Rescission of Antidumping Administrative Review

In accordance with 19 CFR 351.213(d)(1), the Department will rescind an administrative review if a party that requested the review withdraws the request within 90 days of the date of publication of the notice of initiation of the requested review. The Department may extend this time limit if it decides it is reasonable to do so. Because FETL and Fibertex filed timely requests for withdrawal of this administrative review by the mandatory deadline i.e., September 28, 2004, we are hereby rescinding this administrative review.

Assessment

The Department will instruct U.S. Customs and Border Protection (“CBP”) to assess antidumping duties on all appropriate entries. For the companies for which this review is rescinded, antidumping duties shall be assessed at rates equal to the cash deposit of estimated antidumping duties required at the time of entry, or withdrawal from warehouse, for consumption, in accordance with 19 CFR 351.212(c)(1)(i).

The Department will issue appropriate assessment instructions directly to CBP within 15 days of publication of this notice.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i) of the Act, and 19 CFR 351.213(d)(4).

Dated: October 26, 2004.
Jeffrey A. May,
Deputy Assistant Secretary for Import Administration.

[FR Doc. E4-2952 Filed 10-29-04 8:45 am]

BILLING CODE 3510-DS-P